DEPARTMENT OF TRANSPORTATION

Federal Highway Administration

Notice of Final Federal Agency Actions on Proposed Transportation Projects in Florida; Statue of Limitations on Claims

AGENCY: Federal Highway Administration (FHWA), DOT.

ACTION: Notice of limitation on claims for Judicial Review of actions by FHWA and other Federal Agencies.

SUMMARY: The FHWA, on behalf of the Florida Department of Transportation (FDOT), is advising the public of final Federal actions taken by FHWA and other Federal Agencies that are final within the meaning of Federal law. These actions relate to proposed highway improvement project on the United States (U.S.) 90/State Road (S.R.) 10 corridor from Glover Lane in the City of Milton to S.R. 87N/Stewart Street, from S.R. 87N to Ward Basin Road, from Ward Basin Road to S.R. 87S, Federal Project Number: T129-348-R, in Santa Rosa County, State of Florida. These actions grant licenses, permits, and approvals for the project.

DATES: By this notice, the FHWA, on behalf of FDOT, is advising the public of final agency actions subject to 23 U.S.C. 139(l)(1). A claim seeking judicial review of the Federal Agency actions on the listed highway project will be barred unless the claim is filed on or before December 23, 2019. If the Federal law that authorizes judicial review of a claim provides a time period of less than 150 days for filing such claim, then that shorter time period still applies.

FOR FURTHER INFORMATION CONTACT: For FDOT: Jason Watts, Director, Office of Environmental Management, FDOT, 605 Suwannee Street, MS 37, Tallahassee, Florida 32399; telephone (850) 414-4316; email: Jason.Watts@dot.state.fl.us. The FDOT's normal business hours are 8:00 a.m. to 5:00 p.m. (Eastern Standard Time), Monday through Friday, except State holidays.

SUPPLEMENTARY INFORMATION: Effective December 14, 2016, the FHWA assigned, and the FDOT assumed, environmental responsibilities for this project pursuant to 23 U.S.C. 327. Actions taken by FDOT on FHWA's behalf pursuant to 23 U.S.C. 327 constitute Federal agency actions for purposes of Federal law. Notice is hereby given that FHWA, and other Federal Agencies have taken final agency actions subject to 23 U.S.C. 139 (l)(1) by issuing licenses, permits, and approvals for the proposed improvement highway project. The highway project consists of three segments. Segment 1 (FDOT Project Identification (FPID) Number 440915-1), from Glover Lane in the City of Milton to S.R. 87N/Stewart Street, FDOT proposes to widen a 4-lane road to a 6-lane road and construct bicycle lanes and sidewalks. Segment 2 (FPID Number 440915-2), from S.R. 87N to Ward Basin Road, FDOT proposes to widen a 2-lane road to a 4-lane road with bicycle lanes and sidewalks, using the existing bridges and constructing two new bridges to accommodate eastbound traffic over the Blackwater River and Marquis Bayou. Segment 3 (FPID Number 440915-3), from Ward Basin Road to S.R. 87S, FDOT proposes to widen a 2-lane road to a 4-lane road with bicycle lanes and sidewalks. The actions by FHWA and other Federal agencies, and the laws under which such actions were taken, are described in the documented final Environmental Assessment (EA)/final Section 4(f) Individual Evaluation (Section 4(f)) with the Finding of No Significant Impact (FONSI) issued on March 25, 2019, the National Historic Preservation Act (NHPA) Section 106 review, and in other documents in the FDOT project records. The final EA/Section 4(f) and FONSI, and other project records, are available by contacting FDOT at the address provided above, or some can be viewed and downloaded from the project website at https://nwflroads.com/folders/?Projects%2FSantaRosa%2F416748-4%2Fmtgdocs.

This notice applies to the EA, the Section 4(f) determination, the FONSI, the NHPA Section 106 review, and all other Federal agency decisions as of the issuance date of this notice and all laws under which such actions were taken, including but not limited to:

1. General: National Environmental Policy Act (NEPA) [42 U.S.C. 4321-4351; Federal -Aid Highway Act (FAHA) [23 U.S.C. 109 and 23 U.S.C. 128].

2. Air: Clean Air Act (CAA), 42 U.S.C. 7401-7671(q).

3. Land: Section 4(f) of the Department of Transportation Act of 1966 (4f) [49 U.S.C. 303 and 23 U.S.C. 138].

4. Wildlife: Endangered Species Act (ESA) [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended (106) [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 (Civil Rights) [42 U.S.C. 20009(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

The project subject to this notice is:

Project Location: Santa Rosa County, Florida—on the U.S. 90/S.R. 10 corridor from Glover Lane in the City of Milton crossing over the Blackwater River and Marquis Bayou to S.R. 87S, Federal Aid Project Number: T129-348-R.

(Catalog of Federal Domestic Assistance Program Number 20.205, Highway Planning and Construction. The regulations implementing Executive Order 12372 regarding intergovernmental consultation on Federal programs and activities apply to this program.)

Authority: 23 U.S.C. 139(l)(1).

Issued on: June 24, 2019.
Karen M. Brunelle,
Director, Office of Project Development, Federal Highway Administration, Tallahassee, Florida.

[FR Doc. 2019-15793 Filed 7-25-19; 8:45 am]

BILLING CODE 4910-RY-P